Title 3—

The President

Executive Order 14098 of May 4, 2023

Imposing Sanctions on Certain Persons Destabilizing Sudan and Undermining the Goal of a Democratic Transition

By the authority vested in me as President by the Constitution and the laws of the United States of America, including the International Emergency Economic Powers Act (50 U.S.C. 1701 et seq.) (IEEPA), the National Emergencies Act (50 U.S.C. 1601 et seq.), section 212(f) of the Immigration and Nationality Act of 1952 (8 U.S.C. 1182(f)), and section 301 of title 3, United States Code,

I, JOSEPH R. BIDEN JR., President of the United States of America, hereby expand the scope of the national emergency declared in Executive Order 13067 of November 3, 1997 (Blocking Sudanese Government Property and Prohibiting Transactions With Sudan), and expanded by Executive Order 13400 of April 26, 2006 (Blocking Property of Persons in Connection With the Conflict in Sudan's Darfur Region), finding that the situation in Sudan, including the military's seizure of power in October 2021 and the outbreak of inter-service fighting in April 2023, constitutes an unusual and extraordinary threat to the national security and foreign policy of the United States.

It is the policy of the United States to support a transition to democracy and civilian transitional government in Sudan, to defend such a transitional government from those who would prevent its initial formation through violence and other methods, and, once formed, to protect it from those who would undermine it. The United States, in cooperation with like-minded partners, will help such a transitional government, when formed, meet the needs of the Sudanese people and prepare for democratic elections.

Accordingly, to address the threat described in this order and to take further steps with respect to this national emergency, I hereby order:

Section 1. (a) All property and interests in property that are in the United States, that hereafter come within the United States, or that are or hereafter come within the possession or control of any United States person of the following persons are blocked and may not be transferred, paid, exported, withdrawn, or otherwise dealt in:

(i) any foreign person determined by the Secretary of the Treasury, in consultation with the Secretary of State, to be responsible for, or complicit in, or to have directly or indirectly engaged or attempted to engage in, any of the following:

(A) actions or policies that threaten the peace, security, or stability of Sudan;

(B) actions or policies that obstruct, undermine, delay, or impede, or pose a significant risk of obstructing, undermining, delaying, or impeding, the formation or operation of a civilian transitional government, Sudan's transition to democracy, or a future democratically elected government;

(C) actions or policies that have the purpose or effect of undermining democratic processes or institutions in Sudan;

(D) censorship or other actions or policies that prohibit, limit, or penalize the exercise of freedoms of expression, association, or peaceful assembly by individuals in Sudan, or that limit access to free and independent news or information in or with respect to Sudan;

(E) corruption, including bribery, misappropriation of state assets, and interference with public processes such as government oversight of parastatal budgets and revenues for personal benefit;

(F) serious human rights abuse, including serious human rights abuse related to political repression, in or with respect to Sudan;

(G) the targeting of women, children, or any other civilians through the commission of acts of violence (including killing, maiming, torture, or rape or other sexual violence), abduction, forced displacement, or attacks on schools, hospitals, religious sites, or locations where civilians are seeking refuge, or through conduct that would constitute a serious abuse or violation of human rights or a violation of international humanitarian law;

(H) the obstruction of the activities of United Nations missions—including peacekeeping missions, as well as diplomatic or humanitarian missions—in Sudan, or of the delivery of, distribution of, or access to humanitarian assistance; or

(I) attacks against United Nations missions, including peacekeeping operations;

(ii) any foreign person determined by the Secretary of the Treasury, in consultation with the Secretary of State, to be or have been a leader, official, senior executive officer, or member of the board of directors of any entity:

(A) that has, or whose members have, engaged in any activity described in subsection (a)(i) of this section relating to the tenure of such leader, official, senior executive officer, or member of the board of directors; or

(B) whose property and interests in property are blocked pursuant to this order relating to the tenure of such leader, official, senior executive officer, or member of the board of directors;

(iii) any foreign person determined by the Secretary of the Treasury, in consultation with the Secretary of State, to be a spouse or adult child of any person whose property and interests in property are blocked pursuant to this order;

(iv) any foreign person determined by the Secretary of the Treasury, in consultation with the Secretary of State, to have materially assisted, sponsored, or provided financial, material, or technological support for, or goods or services to or in support of, any activity described in subsection (a)(i) of this section or any person whose property and interests in property are blocked pursuant to this order; or

(v) any foreign person determined by the Secretary of the Treasury, in consultation with the Secretary of State, to be owned or controlled by, or to have acted or purported to act for or on behalf of, directly or indirectly, any person whose property and interests in property are blocked pursuant to this order.

(b) The prohibitions in subsection (a) of this section apply except to the extent provided by statutes, or in regulations, orders, directives, or licenses that may be issued pursuant to this order, and notwithstanding any contract entered into or any license or permit granted before the date of this order.

Sec. 2. Following the issuance of a determination by the Secretary of State, in consultation with the Secretary of the Treasury and the Administrator of the United States Agency for International Development, that a civilian transitional government has been formed in Sudan, the Assistant to the President for National Security Affairs shall coordinate, through the interagency process identified in National Security Memorandum 2 of February 4, 2021 (Renewing the National Security Council System), or any successor memorandum, the executive branch actions necessary to implement the policy set forth in this order, including coordinating executive departments and agencies (agencies) to mobilize international assistance to support such a civilian transitional government in implementing political, economic, security, and human rights-related reforms essential for completing a democratic transition.

Sec. 3. The prohibitions in section 1 of this order include:

(a) the making of any contribution or provision of funds, goods, or services by, to, or for the benefit of any person whose property and interests in property are blocked pursuant to this order; and

(b) the receipt of any contribution or provision of funds, goods, or services from any such person.

Sec. 4. I hereby determine that the making of donations of the types of articles specified in section 203(b)(2) of IEEPA (50 U.S.C. 1702(b)(2)) by, to, or for the benefit of any person whose property and interests in property are blocked pursuant to section 1 of this order would seriously impair my ability to deal with the national emergency declared in Executive Order 13067, and expanded by Executive Order 13400 and this order, and I hereby prohibit such donations as provided by section 1 of this order.

Sec. 5. (a) Any transaction that evades or avoids, has the purpose of evading or avoiding, causes a violation of, or attempts to violate any of the prohibitions set forth in this order is prohibited.

(b) Any conspiracy formed to violate any of the prohibitions set forth in this order is prohibited.

Sec. 6. (a) The unrestricted immigrant and nonimmigrant entry into the United States of noncitizens determined to meet one or more of the criteria set forth in section 1(a) of this order would be detrimental to the interests of the United States, and the entry of such persons into the United States, as immigrants or nonimmigrants, is hereby suspended, except when the Secretary of State or the Secretary of Homeland Security, as appropriate, determines that the person's entry would not be contrary to the interests of the United States, including when the Secretary of State or the Secretary of Homeland Security, as appropriate, so determines, based on a recommendation of the Attorney General, that the person's entry would further important United States law enforcement objectives.

(b) The Secretary of State shall implement this authority as it applies to visas pursuant to such procedures as the Secretary of State, in consultation with the Secretary of Homeland Security, may establish.

(c) The Secretary of Homeland Security shall implement this order as it applies to the entry of noncitizens pursuant to such procedures as the Secretary of Homeland Security, in consultation with the Secretary of State, may establish.

(d) Such persons shall be treated by this section in the same manner as persons covered by section 1 of Proclamation 8693 of July 24, 2011 (Suspension of Entry of Aliens Subject to United Nations Security Council Travel Bans and International Emergency Economic Powers Act Sanctions).

Sec. 7. For the purposes of this order:

(a) the term “entity” means a partnership, association, trust, joint venture, corporation, group, subgroup, or other organization;

(b) the term “noncitizen” means any person who is not a citizen or noncitizen national of the United States;

(c) the term “person” means an individual or entity; and

(d) the term “United States person” means any United States citizen, lawful permanent resident, entity organized under the laws of the United States or any jurisdiction within the United States (including foreign branches), or any person in the United States.

Sec. 8. For those persons whose property and interests in property are blocked pursuant to this order who might have a constitutional presence in the United States, I find that because of the ability to transfer funds or other assets instantaneously, prior notice to such persons of measures to be taken pursuant to this order would render those measures ineffectual. I therefore determine that for these measures to be effective in addressing the national emergency declared in Executive Order 13067, and expanded by Executive Order 13400 and this order, there need be no prior notice of a listing or determination made pursuant to section 1 of this order.

Sec. 9. The Secretary of the Treasury, in consultation with the Secretary of State, is hereby authorized to take such actions, including the promulgation of rules and regulations, and to employ all powers granted to the President by IEEPA as may be necessary to carry out the purposes of this order. The Secretary of the Treasury may, consistent with applicable law, redelegate any of these functions within the Department of the Treasury. All agencies of the United States shall take all appropriate measures within their authority to implement this order.

Sec. 10. Nothing in this order shall prohibit transactions for the conduct of the official business of the Federal Government or the United Nations (including its specialized agencies, programs, funds, and related organizations) by employees, grantees, or contractors thereof.

Sec. 11. Nothing in this order is intended to affect the continued effectiveness of any action taken pursuant to Executive Order 13761 of January 13, 2017 (Recognizing Positive Actions by the Government of Sudan and Providing for the Revocation of Certain Sudan-Related Sanctions), and Executive Order 13804 of July 11, 2017 (Allowing Additional Time for Recognizing Positive Actions by the Government of Sudan and Amending Executive Order 13761).

Sec. 12. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

May 4, 2023.

[FR Doc. 2023-09826

Filed 5-4-23; 11:15 am]

Billing code 3395-F3-P